DEPARTMENT OF AGRICULTURE

Forest Service

Huron Manistee Resource Advisory Committee

AGENCY: Forest Service, USDA.

ACTION: Notice of meeting.

SUMMARY: The Huron Manistee Resource Advisory Committee will meet in Mio, MI. The committee is authorized under the Secure Rural Schools and Community Self-Determination Act (Pub. L. 110-343) (the Act) and operates in compliance with the Federal Advisory Committee Act. The purpose of the committee is to improve collaborative relationships and to provide advice and recommendations to the Forest Service concerning projects and funding consistent with Title II of the Act. The meeting is open to the public. The purpose of the meeting is to conduct committee business and to review proposed projects.

DATES: The meeting will be held Wednesday August 24, 2011 from 6:30 to 8:30 p.m.

ADDRESSES: The meeting will be held at the Mio Ranger Station, 107 McKinley Road, Mio, Michigan 48647. Written comments may be submitted as described under SUPPLEMENTARY INFORMATION. All comments, including names and addresses when provided, are placed in the record and are available for public inspection and copying. The public may inspect comments received at the Mio Ranger Station. Please call ahead to (989) 826-3252 to facilitate entry into the building to view comments.

FOR FURTHER INFORMATION CONTACT: Steven Goldman, Designated Federal Official or Carrie Scott, Natural Resource Planner, Huron Manistee National Forests, Mio Ranger Station 107 McKinley Road, Mio, MI 48647; (989) 826-3252

Individuals who use telecommunication devices for the deaf (TDD) may call the Federal Information Relay Service (FIRS) at 1-800-877-8339 between 8 a.m. and 8 p.m., Eastern Standard Time, Monday through Friday. Requests for reasonable accomodation for access to the facility or procedings may be made by contacting the person listed For Further Information.

SUPPLEMENTARY INFORMATION: The following business will be conducted: (1) Introductions and review of previous meeting; (2) Presentation of Title II project proposals; (3) RAC discussion and Title II project recommendations and (4) Public comment. A complete agenda may be previewed at: https://fsplaces.fs.fed.us/fsfiles/unit/wo/secure_rural_schools.nsf/RAC/Huron+Manistee?OpenDocument .

Anyone who would like to bring related matters to the attention of the committee may file written statements with the committee staff before or after the meeting. The agenda will include time for people to make oral statements of three minutes or less. Individuals wishing to make an oral statement should request in writing by August 23, 2011 to be scheduled on the agenda. Written comments and requests for time for oral comments must be sent to Huron Manistee RAC, c/o Mio Ranger Station, 107 McKinley Road, Mio, Michigan 48647, or by e-mail to cnscott@fs.fed.us or via facsimile to (989) 826-6073. A summary of the meeting will be posted at https://fsplaces.fs.fed.us/fsfiles/unit/wo/secure_rural_schools.nsf/RAC/Huron+Manistee?OpenDocument within 21 days of the meeting.

Dated: August 1, 2011.
Steven A. Goldman,
Designated Federal Official.

[FR Doc. 2011-19870 Filed 8-4-11; 8:45 am]

BILLING CODE 3410-11-P